DEPARTMENT OF AGRICULTURE

Forest Service

Intermountain Region, Boise, Payette, and Sawtooth National Forests; Supplement to the Environmental Impact Statement for the Revised Land and Resource Management Plans and Amendment to the Revised Payette Land and Resource Management Plan

AGENCY: Forest Service, USDA.

ACTION: Notice of intent to prepare a supplement to the Final Environmental Impact Statement (EIS) for the Southwest Idaho Ecogroup (SWIEG) Revised Land and Resource Management Plans (LRMP) that may result in an amendment to the Payette LRMP.

SUMMARY: The Forest Service will prepare a supplement to the Final Environmental Impact Statement (FEIS) for the Southwest Idaho Ecogroup (SWIEG) Revised Land and Resource Management Plans and may amend the Payette Revised LRMP. This supplement is being conducted in order to comply with the Chief's appeals decision of March 9, 2005. It is intended to present additional information for the Payette National Forest portion of the SWIEG concerning: (1) The viability of Rocky Mountain bighorn sheep (bighorn sheep) at the planning unit scale; (2) compliance with the Hells Canyon National Recreation Area Act (HCNRA); (3) 36 CFR 292.48; (4) compliance with the National Forest Management Act (NFMA); and (5) 36 CR 219.19. The amendment would add direction to the Payette Revised LRMP to address the viability concerns for bighorn sheep.

DATES: Comments on the draft supplement to the FEIS and amendment to the Payette Revised LRMP must be received within 90 days after publication of the draft supplement to the FEIS for the Southwest Idaho Ecogroup Revised Land and Resource Management Plans (SWIEG FLRMPs) and the draft amendment to the Payette LRMP. The draft supplement to the SWIEG FLRMPs EIS and the draft amendment to the Payette LRMP are expected in June 2007 and the final supplement and amendment are expected in December 2007.

ADDRESSES: Send written comments to Pattie Soucek, Land Management Planner, Payette National Forest, 800 W. Lakeside Avenue, McCall, Idaho 83638-3602; or via telephone at (208) 634-0700; or you may hand-deliver your comments to the Payette Forest Supervisor's Office, located at 800 W. Lakeside Avenue in McCall during normal business hours from 7:30 a.m. to 4:30 p.m., Monday through Friday, excluding Federal holidays. Electronic comments must be submitted in a format such as an e-mail message, plain text (.txt), rich text format (.rtf), and Word (.doc) to: comments-intermtn-Payette@fs.fed.us.

FOR FURTHER INFORMATION CONTACT: Pattie Soucek, Land Management Planner, Payette National Forest, at the address above.

SUPPLEMENTARY INFORMATION: On March 9, 2005, the Chief of the Forest Service made the decision on the administrative appeals for the Payette Revised LRMP. The Chief reversed the Regional Forester's decision to approve management direction for the Hells Canyon Management Area (MA) as it pertains to bighorn sheep and its habitat. The Regional Forester was instructed to reanalyze bighorn sheep viability within the Payette NF, amend the SWIEG FEIS accordingly, and evaluate and adopt as necessary, changes in the management direction for the Hells Canyon MA and adjacent areas. The analysis and evaluation must be extensive enough to support determinations of compliance with applicable law and regulation, specifically the Hells Canyon NRA Act, 36 CFR 219.19 and 36 CFR 292.48.

In response to these instructions, the Forest Service has reanalyzed bighorn sheep viability at the Payette National Forest planning unit scale. The viability analysis considered the well distributed bighorn sheep habitat and its proximity to know bighorn sheep populations. Direct, indirect and cumulative impacts to bighorn sheep from permitted domestic sheep grazing have been assessed and home range population modeling completed. The Forest Service has also reviewed applicable laws and regulations for compliance, specifically the Hells Canyon NRA Act, 36 CFR 292.48, the National Forest Management Act, and 36 CFR 219.19. The Forest Service has reviewed the 2003 SWIEG FLRMPs FEIS, in accordance with FSH 1909.15, Chapter 10, Section 18.

The analysis for the revised FLRMPs, and this updated bighorn sheep analysis, were developed using the principles and scientific methods generated during the Interior Columbia Basin Ecosystem Management Project. In addition, the updated analysis incorporates the findings of two expert panels. Additional information utilized for this analysis includes 10 years of site-specific data gathered during an ongoing monitoring effort of 154 telemetry collared bighorn sheep in the Hells Canyon area and visual observations of bighorn sheep in the Salmon River Mountains along with the management of permitted domestic sheep grazing allotments. The Forest Service will prepare a supplement to the FEIS by presenting and analyzing additional information concerning the viability of bighorn sheep for the Payette Forest planning unit and compliance with Federal law; specifically, the Hells Canyon National Recreation Area Act (HCNRA), the National Forest Management Act (NFMA), 36 CFR 292.48, and 36 CFR 219.19.

In July 2003, a separate Record of Decision (ROD) was issued for each of the three SWIEG Forests (Boise, Payette, and Sawtooth). The RODs implemented Alternative 7 from the Final EIS. During Forest Plan Revision, the risk for disease transmission between bighorn sheep and domestic sheep was identified as a significant issue for the future viability of bighorn sheep in the 2003 SWIEG FLRMPs FEIS. In response to the issue, alternatives were developed and analyzed in detail that removed high risk areas for disease transmission from suitability for domestic sheep grazing. Alternative 7 was selected for implementation in the Record of Decision. This Alternative did not remove the high risk for disease transmission areas from domestic sheep grazing suitability.

Purpose and Need for Action: This supplement to the EIS will not change the purpose and need as described in the SWIEG FLRMPs FEIS on pages 1-4 through 1-8.

Proposed Action: The supplement will not change the proposed action which was described in the SWIEG FLRMPs FEIS on pages 1-1 through 1-3.

Responsible Official: The Responsible Official is Suzanne C. Rainville, Payette Forest Supervisor, Payette National Forest, 800 W. Lakeside Avenue, McCall, ID 83638-3602.

Nature of Decision To Be Made: The Responsible Official will review the supplement to the FEIS and determine what changes will be made to the Revised Payette National Forest Plan to address the significant issue of the risk of disease transmission to bighorn sheep. The Responsible Official will also determine if the Revised LRMP is applicable to Federal laws and regulations.

Scoping Process: Extensive public involvement occurred during the development of the revised Forest Plans over the last 10 years in the form of news releases, field tours, and public meetings. No additional scoping is planned for this supplement.

Comment Requested: a legal notice will be published in the newspaper of record and a Notice of Availability will be published in the Federal Register to inform the public when the draft supplement to the SWIEG FLRMPs FEIS is available for review and comment. The draft supplement to the SWIEG FLRMPs FEIS will be distributed to all parties that received the 2003 SWIEG FLRMPs FEIS, RODs and/or the Payette LRMP and to those parties that filed an appeal of the 2003 decisions.

The comment period on the draft supplement to the SWIEG FLRMPs FEIS will be 90 days from the date the Environmental Protection Agency publishes the Notice of Availability of the draft documents in the Federal Register. Comments must be received by the close of the 90-day comment period so that concerns are made available to the Forest Service at a time when it can meaningfully consider them and respond to them in the final supplement to the SWIEG FLRMPs FEIS.

To assist the Forest Service, it is helpful if comments refer to specific pages of the draft supplement and/or draft amendment. Reviewers may wish to refer to the Council on Environmental Quality Regulations for implementing the procedural provisions of the National Environmental Policy Act at 40 CFR 1503.3 in addressing these points. Comments received, including the names and addresses of those who comment, will be considered part of the public record on this proposal and will be available for public inspection. (40 CFR 1501.7 and 1508.22; Forest Service Handbook 1909.15, Section 21)

Dated: April 4, 2007.
Suzanne C. Rainville,
Forest Supervisor, Payette National Forest.

[FR Doc. 07-1788 Filed 4-10-07; 8:45 am]

BILLING CODE 3410-11-M